DEPARTMENT OF COMMERCE

International Trade Administration

[A-570-200]

Methylene Diphenyl Diisocyanate From the People's Republic of China: Postponement of Preliminary Determination in the Less-Than-Fair-Value Investigation

AGENCY: Enforcement and Compliance, International Trade Administration, Department of Commerce.

DATES: Applicable July 14, 2025.

FOR FURTHER INFORMATION CONTACT: Christopher Maciuba or Kayden Jenson, AD/CVD Operations, Office II, Enforcement and Compliance, International Trade Administration, U.S. Department of Commerce, 1401 Constitution Avenue NW, Washington, DC 20230; telephone: (202) 482-0413 or (202) 482-0967, respectively.

SUPPLEMENTARY INFORMATION:

Background

On March 4, 2025, the U.S. Department of Commerce (Commerce) initiated a less-than-fair-value (LTFV) investigation of imports of methylene diphenyl diisocyanate (MDI) from the People's Republic of China (China).¹ Currently, the preliminary determination is due no later than July 22, 2025.

¹ See Methylene Diphenyl Diisocyanate from the People's Republic of China: Initiation of Less-Than-Fair-Value Investigation, 90 FR 11710 (March 11, 2025).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 24, 2025, the petitioner ² submitted a timely request that Commerce postpone the preliminary determination in this LTFV investigation.³ The petitioner stated that it requests postponement “so that Commerce can evaluate fully the initial questionnaire responses submitted by the mandatory respondents and solicit supplemental information as necessary.” ⁴

² The petitioner is the Ad Hoc MDI Fair Trade Coalition.

³ See Petitioner's Letter, “Petitioner's Request For Postponement Of The Preliminary Determination,” dated June 24, 2025.

⁴ Id.

For the reasons stated above and because there are no compelling reasons to deny the request, in accordance with section 733(c)(1)(A) of the Act, Commerce is postponing the deadline for the preliminary determination by 50 days (i.e., 190 days after the date on which this investigation was initiated). As a result, Commerce will issue its preliminary determination no later than September 10, 2025. In accordance with section 735(a)(1) of the Act and 19 CFR 351.210(b)(1), the deadline for the final determination of this investigation will continue to be 75 days after the publication of the preliminary determination, unless postponed at a later date.

Notification to Interested Parties

This notice is issued and published pursuant to section 733(c)(2) of the Act and 19 CFR 351.205(f)(1).

Dated: July 8, 2025.
Christopher Abbott,
Deputy Assistant Secretary for Policy and Negotiations, performing the non-exclusive functions and duties of the Assistant Secretary for Enforcement and Compliance.

[FR Doc. 2025-13079 Filed 7-11-25; 8:45 am]

BILLING CODE 3510-DS-P